DEPARTMENT OF DEFENSE

Office of the Secretary

Veterans' Advisory Board on Dose Reconstruction

AGENCY: Department of Defense, Defense Threat Reduction Agency.

ACTION: Notice of advisory board meeting.

SUMMARY: The Defense Threat Reduction Agency (DTRA) and the Department of Veterans Affairs (VA) will hold the fourth public meeting of the Veterans' Advisory Board on Dose Reconstruction (VBDR). The VBDR was established at the recommendation of the National Research Council report, entitled “Review of the Dose Reconstruction Program of the Defense Threat Reduction Agency.” The report recommended the need to establish an advisory board that will provide suggestions for improvements in dose reconstruction and claim adjudication procedures. The goal of VBDR is to provide guidance and oversight of the dose reconstruction and claims compensation programs for veterans of U.S.-sponsored atmospheric nuclear weapons tests from 1945-1962; veterans of the 1945-1946 occupation of Hiroshima and Nagasaki, Japan; and veterans who were prisoners of war in those regions at the conclusion of World War II. In addition, the advisory board will assist VA and DTRA in communicating with the veterans.

Radiation dose reconstruction has been carried out by the Department of Defense under the Nuclear Test Personnel Review (NTPR) program since the 1970s. DTRA is the executive agent for the NTPR program which provides participation data and actual or estimated radiation dose information to veterans and the VA.

Board members were selected to the fulfill the statutory requirements mandated by Congress in Section 601 of Public Law 108-183. The Board was appointed on June 3, 2005, and is comprised of 16 members. Board members were selected to provide expertise in historical dose reconstruction, radiation health matters, risk communications, radiation epidemiology, medicine, quality management, decision analysis and ethics in order to appropriately enable the VBDR to represent and address veterans' concerns.

The Board is governed by the provisions of the Federal Advisory Committee Act (FACA), Public Law 92-463, which sets forth standards for the formation and conduct of government advisory committees.

DATES: Wednesday, November 8, 2006, from 8 a.m.-12 p.m., 1:30-2:30 p.m., and 4-5 p.m. with a public comment session from 2:30-3:30 p.m., and Thursday, November 9, 2006, from 8:30 a.m.-12:30 p.m. and 3:30-3:35 p.m., with a public comment session from 2-3 p.m.

ADDRESSES: Hampton VA Medical Center, 100 Emancipation Drive, Hampton, Virginia 23667.

Agenda: On Wednesday, the meeting will open with an introduction of the Board. The following briefings will be presented: “Recent Activities and Actions of the Advisory Board on Radiation and Worker Health” by Dr. Paul Ziemer; “Activities and Actions of the Veterans' Advisory Committee on Environmental Hazards” by Dr. Henry Royal; “Radiation Exposure Compensation Act: Adjudication of Onsite Participant Claims” by Mrs. Dianne Spellberg; “How Fears Affect Our Standing of Radiation and Risks” by Mr. Raymond Johnson; “An Update on NTPR Dose Reconstruction Program” by Dr. Paul Blake; and “An Update on VA Radiation Claims Compensation Program for Veterans” by Mr. Thomas Pamperin.

On Thursday, the four subcommittees established during the inaugural VBDR session will report on their activities since June 2006. The subcommittees are the “Subcommittee on DTRA Dose Reconstruction Procedures,” the “Subcommittee on VA Claims Adjudication Procedures,” the “Subcommittee on Quality Management and VA Process Integration with DTRA Nuclear Test Personnel Review Program,” and the “Subcommittee on Communication and Outreach.” The Board will close with a discussion of the Subcommittee reports, future business and meeting dates.

FOR FURTHER INFORMATION CONTACT: The Veterans' Advisory Board on Dose Reconstruction hotline at 1-866-657-VBDR (8237).

Supplemental Information may be found at http://vbdr.org.

Dated: August 11, 2006.
L.M. Bynum,
OSD Federal Register Liaison Officer, Department of Defense.

[FR Doc. 06-6984 Filed 8-16-06; 8:45 am]

BILLING CODE 5001-06-M